ENVIRONMENTAL PROTECTION AGENCY

40 CFR Part 300

[FRL-6927-1]

National Oil and Hazardous Substances Pollution Contingency Plan; National Priorities List

AGENCY: Environmental Protection Agency.

ACTION: Proposed partial deletion of the California Gulch Superfund Site from the National Priorities List.

SUMMARY: The Environmental Protection Agency (EPA) proposes to delete Operable Unit 10 (OU10) of the California Gulch Superfund Site, located in Leadville, Colorado, from the National Priorities List (NPL). The NPL is the National Oil and Hazardous Substances Pollution and Contingency Plan (NCP), which EPA promulgated pursuant to section 105 of the Comprehensive Environmental Response, Compensation and Liability Act of 1980, as amended (CERCLA). This action is being taken because EPA, with concurrence from the State of Colorado Department of Public Health and Environment (CDPHE), has determined that all appropriate response actions have been taken and that no further response at the Site is appropriate.

A detailed rationale for this Proposal to Delete is set forth in the direct final rule which can be found in the Rules and Regulations section of this Federal Register. The direct final rule is being published because EPA views this deletion action as a noncontroversial revision and anticipates no significant adverse or critical comments. If no significant adverse or critical comments are received, no further activity is contemplated. If EPA receives significant adverse or critical comments, the direct final rule will be withdrawn and all public comments received will be addressed in a subsequent final rule based on this proposed rule. EPA will not institute a second comment period. Any parties interested in commenting should do so at this time.

DATES: Comments concerning this action must be received by EPA by March 19, 2001.

ADDRESSES: Comments may be mailed to Rebecca Thomas, Remedial Project Manager, Environmental Protection Agency, Region 8, Mail Code 8EPR-SR, 999 18th Street, Suite 300, Denver, Colorado 80202. Telephone: (303) 312-6552.

Information Repositories: Comprehensive information on the California Gulch Site is available through the EPA, Region 8 public docket, which is located at the EPA, Region 8 Superfund Records Center. The address for the Region 8 Superfund Records Center is: U.S. Environmental Protection Agency, Region 8, Superfund Records Center, 999 18th Street, 5th Floor, Denver, CO 80202, Telephone (303) 312-6473.

FOR FURTHER INFORMATION CONTACT: Rebecca Thomas (EPR-SR), Remedial Project Manager, Environmental Protection Agency, Region 8, Mail Code 8EPR-SR, 999 18th Street, Suite 300, Denver, CO 80202. Telephone: (303) 312-6552.

SUPPLEMENTARY INFORMATION: For additional information, see the direct final rule which is located in the Rules and Regulations section of this Federal Register.

Authority: 33 U.S.C. 1321(c)(2); 42 U.S.C. 9601-9657, E.O. 12777, 56 FR 54757, 3 CFR, 1991 Comp., p. 351; E.O. 12580, 52 FR 2923; 3 CFR, 1987 Comp., p. 193.

Dated: December 19, 2000.
Jack W. McGraw,
Acting Regional Administrator, U.S. EPA Region 8.

[FR Doc. 01-3615 Filed 2-14-01; 8:45 am]

BILLING CODE 6560-50-P